DEPARTMENT OF COMMERCE

Foreign-Trade Zones Board

[B-59-2016]

Foreign-Trade Zone 122—Corpus Christi, Texas; Application for Expansion of Subzone 122J; Valero Refining Company; Nueces County, Texas

An application has been submitted to the Foreign-Trade Zones (FTZ) Board by the Port of Corpus Christi Authority, grantee of FTZ 122, requesting an expansion of Subzone 122J on behalf of Valero Refining Company. The application was submitted pursuant to the provisions of the Foreign-Trade Zones Act, as amended (19 U.S.C. 81a-81u), and the regulations of the FTZ Board (15 CFR part 400). It was formally docketed on September 12, 2016.

Subzone 122J was approved on December 21, 1988 (Board Order 414, 53 FR 53041, December 30, 1988). The subzone currently consists of three sites located in Nueces County: Site 1 (381 acres)—refinery complex located at 5900 Up River Road, Corpus Christi; Site 2 (230 acres)—refinery complex located at 1300 Cantwell Lane, Corpus Christi; and, Site 3 (16 acres)—coke pad located adjacent to Site 2.

The applicant is requesting authority to expand Site 1 of the subzone to include an adjacent parcel (6.7 acres) located at 6601 Up River Road in Corpus Christi. No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is October 31, 2016. Rebuttal comments in response to material submitted during the foregoing period may be submitted during the subsequent 15-day period to November 14, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: September 12, 2016.
Andrew McGilvray,
Executive Secretary.

[FR Doc. 2016-22401 Filed 9-16-16; 8:45 am]

BILLING CODE 3510-DS-P